DEPARTMENT OF LABOR

Employment and Training Administration

[TA-W-81,222]

Corob North America, a Subsidiary of CPS Color Equipment, Inc., Including On-Site Leased Workes From Pionear and Integra Staffing, Concord, NC; Amended Certification Regarding Eligibility To Apply for Worker Adjustment Assistance

In accordance with Section 223 of the Trade Act of 1974, as amended (“Act”), 19 U.S.C. 2273, the Department of Labor issued a Certification of Eligibility to Apply for Worker Adjustment Assistance on January 27, 2012, applicable to workers of CPS Color Equipment, Inc., formerly known as Corob North America, including on-site leased workers from Pionear and Integra Staffing, Concord, North Carolina. The Department's notice of determination was published in the Federal Register on February 8, 2012 (Vol. 77, No. 26 FR 6590).

At the request of a company official, the Department reviewed the certification for workers of the subject firm. The workers are engaged in activities related to the production of tint dispensing machines.

New information shows that some workers separated from employment at Corob North America had their wages reported through a separate unemployment insurance (UI) tax account under the name CPS Color Equipment, Inc.

The amended notice applicable to TA-W-81,222 is hereby issued as follows:

All workers of Corob North America, a subsidiary of CPS Color Equipment, Inc., including on-site leased workers from Pionear and Integra Staffing, Concord, North Carolina who became totally or partially separated from employment on or after February 13, 2010, through January 27, 2014, and all workers in the group threatened with total or partial separation from employment on date of certification through two years from the date of certification, are eligible to apply for adjustment assistance under Chapter 2 of Title II of the Trade Act of 1974, as amended.

Signed in Washington, DC this 10th day of July 2012.
Elliott S. Kushner,
Certifying Officer, Office of Trade Adjustment Assistance.

[FR Doc. 2012-17840 Filed 7-20-12; 8:45 am]

BILLING CODE 4510-FN-P